DEPARTMENT OF ENERGY

Federal Energy Regulatory Commission

[Docket No. EL08-52-000]

California Independent System Operator Corporation; Notice of Complaint

April 3, 2008.

Take notice that on April 1, 2008, the California Independent System Operator Corporation (CAISO) filed a complaint pursuant to section 206, 306 and 309 of the Federal Power Act, 16 U.S.C. 824e, 825e, and 825h, and section 206 of the Rules of Practice and Procedure of the Federal Energy Regulatory Commission, 18 CFR 385.206 (2007), to modify the Transmission Control Agreement (TCA), under which the CAISO assumes Operational Control of the transmission facilities that constitute the ISO Controlled Grid. CAISO asserts that the TCA would be unjust and unreasonable and unduly discriminatory if Startrans IO, L.L.C. (Startrans IO), is precluded from becoming a party to the TCA and a Participating Transmission Owner (Participating TO), for the transmission rights that it proposes to acquire from the City of Vernon that are currently under the CAISO's Operational Control.

The CAISO states that the complaint and all attachments have been served upon the Public Utilities Commission of the State of California, the California Energy Commission, the California Electricity Oversight Board, the Participating TOs, Startrans IO, and all parties with effective Scheduling Coordinator Agreements under the CAISO Tariff. In addition, the complaint and all attachments have been posted on the CAISO Home Page.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on April 21, 2008.

Kimberly D. Bose,
Secretary.

[FR Doc. E8-7599 Filed 4-9-08; 8:45 am]

BILLING CODE 6717-01-P